DEPARTMENT OF TRANSPORTATION

Federal Aviation Administration

14 CFR Part 73

[Docket No. FAA-2016-9495; Airspace Docket No. 15-AAL-6]

Proposed Establishment of Restricted Areas R-2201A, B, C, D, E, F, G, H, and J; Fort Greely, AK

AGENCY: Federal Aviation Administration (FAA), DOT.

ACTION: Supplemental notice of proposed rulemaking (SNPRM).

SUMMARY: This SNPRM amends the notice of proposed rulemaking (NPRM) published in the Federal Register on March 6, 2017, that proposed to establish Restricted Areas R-2201A, B, C, D, E, F, G, H, and J; Fort Greely, AK. Based on comments to the NPRM, the FAA proposes reducing the lateral and vertical dimensions of the proposed restricted airspace. The modified restricted areas would be designated R-2201A, B, C, and D. This SNPRM seeks comment on the amended proposal.

DATES: Comments must be received on or before February 26, 2018.

ADDRESSES: Send comments on this proposal to the U.S. Department of Transportation, Docket Operations, 1200 New Jersey Avenue SE, West Building Ground Floor, Room W12-140, Washington, DC 20590-0001; telephone: 1 (800) 647-5527, or (202) 366-9826. You must identify FAA Docket Number FAA-2016-9495 and Airspace Docket Number 15-AAL-6 at the beginning of your comments. You may also submit comments through the internet at http://www.regulations.gov.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted airspace in the vicinity of Allen Army Airfield, to contain activities deemed hazardous to nonparticipating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2016-9495 and Airspace Docket Number 15-AAL-6) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket Number FAA-2016-9495 and Airspace Docket Number 15-AAL-6.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 1601 Lind Ave. SW, Renton, WA 98057.

History

The FAA published a notice of proposed rulemaking (NPRM) in the Federal Register for Docket No. FAA-2016-9495 (82 FR 12529; March 6, 2017). The NPRM proposed to establish Restricted Areas R-2201A, B, C, D, E, F, G, H, and J; Fort Greely, AK.

The NPRM proposed that the restricted areas would be configured in three layers, extending from the surface to Flight Level (FL) 220. R-2201A, B, and C would extend from the surface to but not including 6,000 feet MSL. Areas D, E, and F would extend from 6,000 feet MSL to but not including 15,000 feet MSL. Areas G, H, and J would extend from 15,000 feet MSL to FL 220. The proposed time of designation for all of the above areas was “0700-1900 local time Monday-Friday; other times by NOTAM.”

A total of 39 comments were received in response to the NPRM. All commenters expressed objections to the proposal.

Discussion of Comments

The comments received focused on three main areas of concern: Adverse impacts to general aviation flying under VFR; negative impacts on IFR aircraft; and general impacts to general aviation.

Adverse Impacts to General Aviation Flying Under VFR

Many commenters wrote that the proposed restricted areas would seriously impact access to a key VFR route to and from the Isabel Pass. This strategically important mountain pass connects interior and southcentral Alaska, offering one of the lowest terrain routes through the Alaska Range. Pilots regularly navigate using the Richardson Highway and Trans Alaska Pipeline to traverse the mountain valley with precipitous terrain on either side. Commenters contended that this major VFR corridor is already constrained by the R-2202 complex to the west. The proposed R-2201 complex would further narrow the airspace available to fly within the corridor. They believe that the prevalence of rapidly rising terrain, high winds, and rapidly changing weather conditions, combined with the narrow corridor, would pose a significant hazard to pilots by leaving them with little or no options for coping with adverse flight conditions.

The FAA is proposing to modify the boundaries of the original proposal to provide a significantly larger VFR corridor along the Richardson Highway, and reduce the proposed altitude structure of the restricted area complex. This proposal also eliminates a section of the proposed restricted airspace that extended part way into the Buffalo MOA exclusion airspace. These measures should lessen the impact to VFR aircraft operations.

Negative Impacts to IFR Aircraft

Commenters pointed out that the proposed R-2201 complex would be located near two important IFR navigation aids (NAVAIDs): The Big Delta VORTAC (BIG), and the Delta Junction NDB (DJN). These NAVAIDs serve the following airways: A-2, B-25, V-444, V-481, V-515, T-226, and T-232. For IFR aircraft flying below FL 180 to have access to Fairbanks from the east or south, they must use these airways. However, if the full proposed R-2201 complex was active, all routes to and from BIG and DJN would be unavailable. The commenters said that lack of access to these routes would negatively affect air traffic safety and efficiency and increase the cost for aircraft operators to fly in this area.

The FAA is also proposing to reduce the proposed ceiling of the restricted area complex from FL 220 to 11,000 feet MSL, and limit the activation of the proposed restricted airspace between 6,000 feet MSL and 11,000 feet MSL to “by NOTAM 4 hours in advance.” This should provide greater availability of the airways noted above. Additionally, procedures would be incorporated into the Letters of Agreement/Procedure (LOA/LOP) between the controlling agency and the using agency to mitigate access issues. This would include activating only the minimum amount of airspace needed for the specific training mission, allowing the remaining airspace to be utilized by other users of the National Airspace System.

General Impacts to General Aviation

A number of commenters were concerned that the proposed times of activation for each restricted area would amount to 12 hours per weekday, as well as other times by NOTAM. The airspace below 6,000 feet MSL would be most affected since it could be active 60 percent of the time. The remaining altitude layers could be active 40 percent of the time. Due to the frequent occurrence of in-flight icing conditions in the area, the commenters pointed out that the availability of the low altitude portion of the R-2201 complex is extremely important. The potential high activation rate of the restricted areas could impact VFR and IFR aircraft.

As noted above, the modified design, and proposed LOA/LOP procedures between the controlling and using agencies, should lessen impacts on general aviation. Additionally, for situations such as icing, if an aircraft requires an altitude that is within an active restricted area, the LOA/LOP would contain updated procedures that provide for coordination with the using agency to cease operations as necessary to provide for non-participating aircraft access through the SUA area. This provision would be similar to those already contained in LOAs/LOPs for other special use airspace areas in Alaska.

Commenters also expressed concern about the proposed times of use for the complex; specifically, the provision allowing activation by NOTAM. One commenter stated that the lack of an advance notice requirement for activation of the area by NOTAM could leave pilots with insufficient time for adequate flight planning, resulting in the need for an unforeseen circumnavigation of the area and/or having to divert to refuel. One commenter recommended that the times of use be changed to “as published by NOTAM issued 4 hours in advance of area activation.”

The proposal has been modified so that NOTAMs for activating the restricted areas must be issued four hours in advance.

In addition to the above measures, the Special Use Airspace Information Service (SUAIS) would be updated continually to provide transitioning pilots with the current status of the various special use airspace areas that could affect their flight.

Differences From the NPRM

In response to the public comments, the FAA has significantly revised the airspace proposal. The United States Army Alaska (USARAK) re-evaluated its training mission requirements and the amount of restricted airspace needed to contain the various hazardous training events.

The original proposal consisted of nine restricted area subareas (R-2201A, B, C, D, E, F, G, H and J) extending in three layers from the surface up to FL 220. USARAK determined that it could meet its mission training goals with a scaled back restricted area complex consisting of four subareas (R-2201A, B, C, and D) instead of nine.

Further, USARAK concluded that it could accomplish required training within a lower altitude structure that extends from the surface to 11,000 feet MSL, instead of FL 220. R-2201A and B would extend from the surface to but not including 6,000 feet MSL; while R-2201C and D (which would overlie A and B, respectively) would extend from 6,000 feet MSL to 11,000 feet MSL. Most training would be accomplished in R-2201A and B from the surface to 6,000 feet MSL. The originally proposed altitudes above 11,000 feet MSL up to FL 220 are, therefore, removed from the proposal. These changes reduce the amount of proposed restricted airspace by approximately 50 percent.

To address the concerns about the narrow width of the VFR route to and from the Isabel Pass, the proposed western boundaries of the restricted areas were moved eastward, and the southern boundary moved northward, to provide a larger VFR corridor along the Richardson Highway as well additional clearance from the Donnelly Dome area.

The proposed time of designation for the restricted areas has also been revised. In the NPRM, the time of designation for all nine proposed subareas was “0700-1900 local time Monday-Friday; other times by NOTAM.” In the revised proposal, only R-2201A and B (which would extend from the surface to but not including 6,000 feet MSL) would have the specific published times of “0700-1900 local time Monday-Friday”; as well as a provision to activate R-2201A and B at other times by a NOTAM issued 4 hours in advance. The time of designation for R-2201C and D (which would extend from 6,000 feet MSL to 11,000 feet MSL) would be limited to “By NOTAM 4 hours in advance” of the effective time. The proposed requirement that NOTAMs be issued 4 hours in advance was added in response to public comments that at least four hours advanced notice is needed to assist pilots with flight planning to help them avoid the need for reroutes or fuel diversions.

These proposed modifications provide a larger VFR corridor along the Richardson Highway; reduce the overall proposed restricted airspace by approximately 50 percent; and lessen the potential for impact on both VFR and IFR operations.

The Revised Proposal

The FAA is proposing an amendment to Title 14, Code of Federal Regulations (14 CFR) part 73 to establish restricted areas R-2201A, B, C, and D; Fort Greely, AK. Restricted areas R-2201A and R-2201C would overlie the Combined Arms Collective Training Facility (CACTF), and R-2201B and R-2201D would overlie the Battle Area Complex (BAX).

R-2201A would be located approximately one nautical mile southeast of Allen Army Airfield. The designated altitudes would extend from the surface to but not including 6,000 feet MSL. The time of designation would be “0700-1900 local time Monday-Friday; other times by NOTAM 4 hours in advance.”

R-2201B would be established immediately south of R-2201A. The northern boundary of R-2201B would be the same as the southern boundary of R-2201A. R-2201B would extend southward to latitude 63°49′33″ N. The designated altitudes would be from the surface to but not including 6,000 feet MSL. The time of designation would be “0700-1900 local time Monday-Friday; other times by NOTAM 4 hours in advance.”

R-2201C would overlie R-2201A using the same lateral boundaries. The designated altitudes would be from 6,000 feet MSL to 11,000 feet MSL. The time of designation would be “By NOTAM 4 hours in advance.”

R-2201D would overlie R-2201B using the same lateral boundaries. The designated altitudes would be from 6,000 feet MSL to 11,000 feet MSL. The time of designation would be “By NOTAM 4 hours in advance.”

A chart of the revised R-2201 proposal will be posted on the www.regulations.gov website (search: FAA-2016-9495).

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.22 Alaska [Amended]

2. § 73.22 is amended as follows:

* * * * *

R-2201A Fort Greely, AK [New]

Boundaries. Beginning at lat. 63°58′45″ N, long. 145°35′06″ W; to lat. 63°58′08″ N, long. 145°35′05″ W; to lat. 63°57′06″ N, long. 145°30′15″ W; to lat. 63°57′11″ N, long. 145°39′25″ W; to lat. 63°58′48″ N, long. 145°39′25″ W; to the point of beginning.

Designated altitudes. Surface to but not including 6,000 feet MSL.

Time of designation. 0700-1900 local time Monday-Friday; other times by NOTAM 4 hours in advance.

Controlling agency. FAA, Anchorage ARTCC.

Using agency. U.S. Army, AK (USARAK), Commanding General, Joint Base Elmendorf-Richardson (JBER), AK.

R-2201B Fort Greely, AK [New]

Boundaries. Beginning at lat. 63°57′06″ N, long. 145°30′15″ W; thence clockwise along a 6.3-NM radius of Allen AAF; to lat. 63°56′14″ N, long. 145°31′17″ W; to lat. 63°54′54″ N, long. 145°26′55″ W; thence south along Granite Creek; to lat. 63°49′36″ N, long. 145°34′53″ W; to lat. 63°49′36″ N, long. 145°40′45″ W; thence north along the west bank of Jarvis Creek; to lat. 63°52′14″ N, long. 145°41′49″ W; to lat. 63°52′56″ N, long. 145°42′52″ W; to lat. 63°55′01″ N, long. 145°42′52″ W; to lat. 63°56′20″ N, long. 145°39′26″ W; to lat. 63°57′11″ N, long. 145°39′25″ W; to the point of beginning.

Designated altitudes. Surface to but not including 6,000 feet MSL.

Time of designation. 0700-1900 local time Monday-Friday; other times by NOTAM 4 hours in advance.

Controlling agency. FAA, Anchorage ARTCC.

Using agency. U.S. Army, AK (USARAK), Commanding General, Joint Base Elmendorf-Richardson (JBER), AK.

R-2201C Fort Greely, AK [New]

Boundaries. Beginning at lat. 63°58′45″ N, long. 145°35′06″ W; to lat. 63°58′08″ N, long. 145°35′05″ W; to lat. 63°57′06″ N, long. 145°30′15″ W; to lat. 63°57′11″ N, long. 145°39′25″ W; to lat. 63°58′48″ N, long. 145°39′25″ W; to the point of beginning.

Designated altitudes. 6,000 feet MSL to 11,000 feet MSL.

Time of designation. By NOTAM 4 hours in advance.

Controlling agency. FAA, Anchorage ARTCC.

Using agency. U.S. Army, AK (USARAK), Commanding General, Joint Base Elmendorf-Richardson, AK (JBER), AK.

R-2201D Fort Greely, AK [New]

Boundaries. Beginning at lat. 63°57′06″ N, long. 145°30′15″ W; thence clockwise along a 6.3-NM radius of Allen AAF; to lat. 63°56′14″ N, long. 145°31′17″ W; to lat. 63°54′54″ N, long. 145°26′55″ W; thence south along Granite Creek; to lat. 63°49′36″ N, long. 145°34′53″ W; to lat. 63°49′36″ N, long. 145°40′45″ W; thence north along the west bank of Jarvis Creek; to lat. 63°52′14″ N, long. 145°41′49″ W; to lat. 63°52′56″ N, long. 145°42′52″ W; to lat. 63°55′01″ N, long. 145°42′52″ W; to lat. 63°56′20″ N, long. 145°39′26″ W; to lat. 63°57′11″ N, long. 145°39′25″ W; to the point of beginning.

Designated altitudes. 6,000 feet MSL to 11,000 feet MSL.

Time of designation. By NOTAM 4 hours in advance.

Controlling agency. FAA, Anchorage ARTCC.

Using agency. U.S. Army, AK (USARAK), Commanding General, Joint Base Elmendorf-Richardson (JBER), AK.

Issued in Washington, DC, on January 3, 2018.
Rodger A. Dean Jr.,
Manager, Airspace Policy Group.

[FR Doc. 2018-00371 Filed 1-10-18; 8:45 am]

BILLING CODE 4910-13-P